DEPARTMENT OF TRANSPORTATION

Federal Aviation Administration

14 CFR Part 71

[Docket No. FAA-2019-0687; Airspace Docket No. 19-ASO-17]

RIN 2120-AA66

Amendment of Area Navigation Routes, Florida Metroplex Project; Southeastern United States

AGENCY: Federal Aviation Administration (FAA), DOT.

ACTION: Final rule; correction.

SUMMARY: This action corrects a final rule published by the FAA in the Federal Register on March 24, 2020, that amends area navigation (RNAV) routes in the southeastern United States in support of the Florida Metroplex Project. This action makes an editorial correction to the order of points listed in the description of RNAV route Q-110.

DATES: Effective date 0901 UTC, May 21, 2020. The Director of the Federal Register approves this incorporation by reference action under Title 1 Code of Federal Regulations part 51, subject to the annual revision of FAA, Order 7400.11 and publication of conforming amendments.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule for Docket No. FAA-2019-0687 in the Federal Register (85 FR 16533; March 24, 2020), amending 11 RNAV Q-routes in the southeastern United States. Subsequent to publication, it was determined that the order of points listed in the description of RNAV route Q-110 was incorrectly changed from a “west to east” format to a “south to north” format. This rule corrects the Q-110 route description by changing the order of points to a “west to east” format in accordance with FAA Order 7400.2 criteria. This is an editorial change only that does not alter the alignment of the route as shown on aeronautical charts, and does not affect use of the route by aircraft.

Correction to Final Rule

Accordingly, pursuant to the authority delegated to me, the description of RNAV route Q-110 as published in the Federal Register on March 24, 2020 (85 FR 16533; FR Doc. 2020-05987) is corrected as follows:

Paragraph 2006 United States Area Navigation Routes

* * * * *

Q-110 BLANS, IL to OCTAL, FL [Corrected]
BLANS, IL | WP | (Lat. 37°28′09.27″N, long. 088°44′00.68″W)
BETIE, TN | WP | (Lat. 36°07′29.88″N, long. 087°54′01.48″W)
SKIDO, AL | WP | (Lat. 34°31′49.10″N, long. 086°53′11.16″W)
BFOLO, AL | WP | (Lat. 34°03′33.98″N, long. 086°31′30.49″W)
JYROD, AL | WP | (Lat. 33°10′53.29″N, long. 085°51′54.85″W)
DAWWN, GA | WP | (Lat. 31°28′49.96″N, long. 084°36′46.69″W)
JOKKY, FL | WP | (Lat. 30°11′31.47″N, long. 083°38′41.86″W)
AMORY, FL | WP | (Lat. 29°13′17.02″N, long. 082°55′42.90″W)
SMELZ, FL | WP | (Lat. 28°04′59.00″N, long. 082°06′34.00″W)
SHEEK, FL | WP | (Lat. 27°35′15.40″N, long. 081°46′27.82″W)
JAYMC, FL | WP | (Lat. 26°58′51.00″N, long. 081°22′08.00″W)
OCTAL, FL | WP | (Lat. 26°09′01.92″N, long. 080°12′11.60″W)

* * * * *

Issued in Washington, DC, on April 1, 2020.
Scott M. Rosenbloom,
Acting Manager, Rules and Regulations Group.

[FR Doc. 2020-07182 Filed 4-6-20; 8:45 am]

BILLING CODE 4910-13-P